DEPARTMENT OF ENERGY

Federal Energy Regulatory Commission

[Docket Nos. ER02-2014-006, ER03-1272-000, EL03-132-000, EL02-101-000]

CLECO Power LLC, Dalton Utilities, Entergy Services, Inc., Georgia Transmission Corporation, JEA, MEAG Power, Sam Rayburn G&T Electric Cooperative, Inc., South Carolina Public Service Authority, Southern Company Services, Inc., City of Tallahassee, Florida; Supplemental Notice of Technical Conference

November 25, 2003.

The November 7, 2003 Notice of Technical Conference in this proceeding indicated that a technical conference will be held on December 8-9, 2003 at 10 a.m. This conference will be held at the offices of the Federal Energy Regulatory Commission, 888 First Street, NE., Washington, DC 20426. Parties that will participate by phone should contact Mark Gratchen at (202) 502-6274 no later than Wednesday, December 3, 2003.

The agenda includes time for open discussion and the Commission wishes to hear from all parties. If any party wishes to make a formal presentation, please contact Mark Gratchen at (202) 502-6274 no later than Wednesday, December 3, 2003.

The conference will be transcribed. Transcripts will be available to view electronically under the above listed docket numbers seven days after the conference.

The agenda for the technical conference is set forth in the Attachment to this notice.

Magalie R. Salas,
Secretary.

Technical Conference Agenda

December 8, 2003

10 a.m.-12:30 p.m.—Discussion of Entergy's Generator Operator Limits (GOL) Procedure

Opening Comments and Introduction

Entergy presentation summarizing its November 3, 2003 Report on GOLs

Questions and Discussion of November 3, 2003 GOL Report

This session will include a discussion of Entergy's GOL Report. Topics will be discussed in the following order:

The Implementation Period

Standard of Review

Non-Discriminatory Application (including analytical framework, source data and results/conclusions)

Availability of Transfer Capability

Sufficiency of Transfer Capability (including analytical framework, source data and results/conclusions)

Increased Availability of Transfer Capability (including analytical framework, source data and results/conclusions)

Potential to Withhold Transfer Capability (including analytical framework, source data and results/conclusions).

Intervenor Presentations

Modifications to GOL Process and Summary of Parties' Positions

12:30 p.m.-1:30 p.m.—Lunch

1:30 p.m.-4 p.m.—Discussion of Entergy's Available Flowgate Capability (AFC) Proposal

Entergy presentation: Overview and steps of AFC process; differences with GOL/ATC

Questions and Discussion of Entergy's AFC Proposal. Topics will be discussed in the following order:

Flowgate Criteria: Identification of specific criteria to be used and justification for them. Use of existing studies to identify the base set of flowgates. Specification of and justification for criteria to be used to add and delete monitored flowgates. (See Entergy's November 12, 2003 response (November response) to question no. 1 in the Division Director Letter issued in Docket No. ER03-1272-000 on October 22, 2003 (Division Director Letter).)

Base case models and assumptions for AFC process and comparison to GOL process. (See November response to question no. 3 in the Division Director Letter.)

Importance of Response Factors in AFC process and support for Threshold level chosen by Entergy. (See November response to question nos. 4, 5, and 6 in the Division Director Letter.)

Transparency of process, implementation timetable and other issues. (See November response to question nos. 7, 8, and 9 in the Division Director Letter.)

December 9, 2003

10:00 p.m.-12:30 p.m.—Continuation of Discussion on AFCs, if needed; Discussion of Entergy's Weekly Procurement Process (WPP)

• Staff Summary of the Commission Order issued in ER04-35-000 and issues raised.

• Entergy's presentation on the WPP

I. Overview

II. Structure of WPP

III. Role of Independent Oversight

IV. WPP Products

V. Redispatch

VI. Interaction with GOLs/AFCs

12:30 p.m.-1:30 p.m.—Lunch

1:30 p.m.-3:45 p.m.—Questions and Discussion of Entergy's WPP

• Topics will be discussed in the following order; the questions are intended to facilitate discussion and are not limitations to the discussion:

1. Structure of the Weekly Procurement Process—What type of entity is appropriate for managing the WPP? Which entity will manage the WPP?

2. Role of Independent Procurement Monitor (IPM)—What are the roles, functions, and responsibilities of the IPM?

3. WPP Products including redispatch

4. Effect of WPP on GOLs/AFCs—What is the effect of the WPP on transfer capabilities?

5. Future Developments— How will AFC and WPP operate within the SeTrans RTO?

3:45 p.m.-4 p.m.—Closing Remarks

[FR Doc. E3-00429 Filed 12-2-03; 8:45 am]

BILLING CODE 6717-01-P